DEPARTMENT OF HOUSING AND URBAN DEVELOPMENT

[Docket No. FR-4979-N-01]

Notice of Funding Availability (NOFA) for the Enhancement of Public Housing HOPE VI Communities Through Mentoring Demonstration Program Grants

AGENCY: Office of the Assistant Secretary for Public and Indian Housing, HUD.

ACTION: Notice of funding availability.

Overview Information

A. Federal Agency Name. Department of Housing and Urban Development, Office of Public and Indian Housing.

B. Funding Opportunity Title. Notice of Funding Availability (NOFA) for the Enhancement of Public Housing HOPE VI communities through Mentoring Demonstration Program grants.

C. Announcement Type. Initial announcement.

D. Funding Opportunity Number. The Federal Register number for this NOFA is: FR-4979-N-01. The OMB approval number for this program is: 2577-0208.

E. Catalog of Federal Domestic Assistance (CFDA) Number. The CFDA number for this NOFA is 14.866, for the “Enhancement of Public Housing HOPE VI communities through Mentoring demonstration program.”

F. Dates.

1. Application Submission Date: The application submission date shall be July 7, 2005. See the General Section of the SuperNOFA (70 FR 13576) for application submission, and timely receipt requirements.

2. Estimated Grant Award Date: The estimated award date will be approximately September 1, 2005.

G. Additional Overview Content Information.

1. This NOFA announces the availability of $525,000 for HOPE VI grantees to create Mentoring demonstration programs.

2. The maximum amount of each grant award is $175,000. It is anticipated that approximately 4 grant awards will be made.

3. All public housing authorities (PHAs) with HOPE VI Revitalization Grants are eligible to apply. PHAs that do not have a HOPE VI Revitalization grant or manage only a HCV program, tribal PHAs and tribally-designated housing entities are not eligible. PHAs that administer Family Self Sufficiency Programs are encouraged to apply.

4. The HOPE VI Mentoring demonstration program is a demonstration program that will assist HUD in determining if a Mentoring assistance model improves the results of self-sufficiency type programs (e.g., Family Self Sufficiency and HOPE VI Community Supportive Services) for participating residents.

5. There must be two separate, equally sized groups of resident families, a group that receives Mentoring services and a control group that does not.

6. Through these mentoring demonstration programs, PHAs with HOPE VI Revitalization grants will partner with grassroots, faith-based and other community-based organizations (FB&CBOs) that provide services to transitioning families (i.e., families transitioning from traditional Public Housing to re-developed Mixed-Income communities). Through these partnerships, PHAs and FB&CBOs will match participating residents with mentors from the FB&CBO who will assist the residents to achieve their goals/benchmarks. The FB&CBOs will receive grant funds on a fee-for-service basis according to the number of benchmarks completed by participating HOPE VI residents.

7. A match of five percent of the total grant request is required.

8. Each applicant may submit only one application.

9. Application materials may be obtained over the Internet from the Grants.gov web site. Technical corrections and frequently asked questions will also be posted on this web site.

10. HUD's general policy requirements apply to all HUD federal financial assistance NOFAs for Fiscal Year (FY) 2005. These policies cover those NOFAs issued under HUD's Super Notice of Funding Availability (SuperNOFA) (70 FR 13576, published March 21, 2005) as well as those issued after publication of the SuperNOFA.

Full Text of Announcement

I. Funding Opportunity Description

A. Program Description

1. HOPE VI grantees are encouraged to work cooperatively with grassroots, faith-based and other community-based organizations as part of their Community and Supportive Services programs. FB&CBOs are vital entities in local neighborhoods and too often their strengths are not tapped as HOPE VI grantees work to help their residents achieve economic self-sufficiency. This NOFA will provide additional funding to HOPE VI grantees to study the development of innovative supportive service delivery through grassroots, faith-based and other community-based organizations.

2. The HOPE VI Mentoring demonstration program is a demonstration program that will assist HUD in determining if a mentoring assistance model improves the results of self-sufficiency type programs (e.g. HOPE VI Community Supportive Services (CSS) and Family Self Sufficiency (FSS)) for participating residents. Specifically, the grant awards will be awarded to Public Housing Authorities (PHAs) with current HOPE VI Revitalization grants in order to determine if providing mentoring services to residents already participating in self-sufficiency programs (e.g., CSS) increases their likelihood of achieving self-sufficiency, as compared to residents participating in self-sufficiency programs who do not receive mentoring services. The likelihood of achieving self-sufficiency will be evaluated primarily by certain outcome measures: Net change in earnings and a net change in the participant's credit rating, as well as residents’ accomplishment of their other goals/benchmarks.

3. There must be two separate, equally-sized groups of resident families, a group that receives Mentoring services and a control group that does not. All participants in both groups will be chosen by random sampling of the current CSS-eligible participants.

4. Through these demonstration programs, PHAs with HOPE VI Revitalization grants will partner with grassroots, faith-based and other community-based organizations (FB&CBOs) that provide services to transitioning families (i.e., families transitioning from traditional Public Housing to re-developed Mixed-Income communities). Through these partnerships, PHAs and FB&CBOs will match participating residents with mentors from the FB&CBO who will assist the residents to achieve various self-sufficiency benchmarks (e.g., increasing their income, improving their credit rating, obtaining a job, achieving a GED, purchasing a home). The FB&CBOs will receive grant funds on a fee-for-service basis according to the number of benchmarks completed by participating HOPE VI residents. As the public housing resident family achieves each individual goal, payment for service will go to the sponsoring FB&CBO.

5. Each HOPE VI grantee shall partner with at least two FB&CBOs.

6. Examples of HOPE VI grantee/FB&CBO partnership. A typical family might have five benchmarks, and as the family reaches each benchmark, the FB&CBO will be paid for that achievement. Payment would not go to the individual mentor. A PHA might randomly select 20 public housing families participating in its CSS program to take part in the demonstration program and to receive mentoring services (as opposed to the control group which would not receive mentoring services), and the partnering FB&CBO would select 20 people to become mentors. For every goal met by the family from the group receiving mentoring services, the FB&CBO would receive one unit of funding from the PHA. Assuming that each family would have to meet five established goals, the FB&CBO would be paid for 100 units of service. (20 families × 5 benchmarks = 100 units of service.)

7. The programs will be evaluated with the University or other research facility presently partnering with the PHA to evaluate the HOPE VI Revitalization program. The evaluation will entail outcome measures of a net change in earnings and a net change in the participant's credit rating, based on the resident's Fair Isaac Corporation (FICO) score from Equifax, Experian, and TransUnion.

B. Authority

The program authority for the HOPE VI Program is section 24 of the 1937 Act (42 U.S.C. 1437v). The funding authority for the Mentoring demonstration program comes from the several Appropriations Acts, from 1997 to 2001, (Public Laws 104-204, 105-65, 105-276, 106-74, and 106-377), under, “Revitalization of Severely Distressed Public Housing” (HOPE VI).

C. Definition of Terms

1. Community and Supportive Services. The CSS component of the HOPE VI program encompasses all activities that are designed to promote upward mobility, self-sufficiency, and improved quality of life for the residents of the public housing project involved (e.g., employment training, credit counseling, educational activities, homeownership counseling, transportation assistance, etc.). For purposes of this grant, the relevant CSS activities are those in the applicant's CSS Plan, as approved by HUD.

2. Match. Means at least five percent (5%) of the requested grant amount is required to be donated from sources other than federal funding for Mentoring demonstration program uses. Community Development Block Grant (CDBG) funds are considered local funds, not federal funds. This match may be measured by in-kind services. If volunteer time is being committed it should be calculated using the number of hours to be committed multiplied by the normal professional rate for the local area or, if these are not applicable, the national minimum wage rate. The commitment must be viewed as in-kind services to the program.

3. Mentoring Program Coordinator is a PHA staff person who is responsible for coordinating the activities proposed for this application to ensure that their implementation will achieve the overall grant goals and objectives.

4. Nonprofit organization. A nonprofit organization is an organization that is exempt from federal taxation. A nonprofit can be organized for the following purposes: Charitable, religious, educational, scientific, literary, and other purposes. In order to qualify to become a nonprofit, an organization must be a corporation, community chest, fund, or foundation. An individual or partnership will not qualify. To obtain nonprofit status, qualified organizations must file an application with the Internal Revenue Service (IRS) and receive designation as such by the IRS. For more information, go to http://www.irs.gov. Proposed sub-grantees that are in the process of applying for nonprofit status, but have not yet received nonprofit designation from the IRS on the application submission date, will not be considered nonprofit organizations and will not be considered for mentoring demonstration program grants.

5. Mentor is the designee from the faith-based or community organization who will assist the public housing family (for the duration of the grant) to successful completion of each benchmark.

6. Person with disabilities means a person who:

a. Has a condition defined as a disability in section 223 of the Social Security Act;

b. Has a developmental disability as defined in section 102 of the Developmental Disabilities Assistance Bill of Rights Act; or

c. Is determined to have a physical, mental, or emotional impairment which:

(1) Is expected to be of long-continued and indefinite duration;

(2) Substantially impedes his or her ability to live independently; and

(3) Is of such a nature that such ability could be improved by more suitable housing conditions.

d. The term “person with disabilities” does not exclude persons who have acquired immunodeficiency syndrome AIDS) or any conditions arising from the etiologic agent for AIDS. In addition, no individual shall be considered a person with disabilities, for purposes of eligibility for low-income housing, solely because of any drug or alcohol dependence.

e. The definition provided above for persons with disabilities is the proper definition for determining program qualifications. However, the definition of a person with disabilities contained in section 504 of the Rehabilitation Act of 1973 and its implementing regulations must be used for purposes of reasonable accommodations.

II. Award Information

A. A total of $525,000 is available for funding. HUD anticipates awarding up to four (4) grants as a part of this initial announcement. Each applicant may request up to $175,000. If funds remain after all grants are awarded, HUD may divide these funds equally among the grant recipients. This may result in grant amounts larger than $175,000. HUD reserves the right to award less than the requested amount of funds.

B. The grant term for funding shall be 18 months.

III. Eligibility Information

A. Eligible Applicants

Eligible applicants include, and are limited to PHAs with current HOPE VI Revitalization grants that include Community and Supportive Services components and other economic development activities that promote the economic self-sufficiency of residents under the revitalization program, in accordance with Section 24(d)(1)(G) of the United States Housing Act of 1937 (42 U.S.C. 1437, et seq.). Eligible applicants must already have a relationship established with the FB&CBO(s) described in the application, or have identified and committed the FB&CBO(s) they will partner with as of the application submission date. PHAs that administer Family Self Sufficiency Programs are encouraged to apply. See Section IV. for documentation of commitment. If the applicant is not eligible, its application will not be considered for funding.

B. Cost Sharing or Matching

Match. Applicants must have a match requirement equal to 5% of the award amount (see definition in Section I). This match may be measured by in-kind services. If volunteer time is being committed it should be calculated using the number of hours to be committed multiplied by the normal professional rate for the local area or, if these are not applicable, the national minimum wage rate should be used. The commitment must be viewed as in-kind services to the program. If the application does not include sufficient Match donations, the application will not be considered for funding.

C. Other

1. Threshold Criteria:

If you have not met a threshold, or have not included in the application the complete, correct, required documentation that demonstrates the threshold has been met, the application will not be considered for funding.

a. Evaluation by Higher Education or Research Facility. The applicant must have an active agreement as of the publication date of this NOFA with a University or other research facility to review and evaluate results achieved by the applicant's HOPE VI Revitalization grant(s). The applicant must use the same University or other research facility to review and evaluate a grant from this NOFA. See Section IV.B. of this NOFA for required documentation.

b. Other Requirements and Procedures Applicable to All Program: The requirements and procedures listed in Section III.C. of the General Section apply to this NOFA.

2. Program Requirements:

a. Demonstration. The HOPE VI Mentoring demonstration program is a demonstration program that will assist HUD in determining if a Mentoring assistance model improves the results of self-sufficiency type programs (e.g. Family Self Sufficiency and HOPE VI Community Supportive Services) for participating residents. Applicants must propose a demonstration program that addresses this purpose.

b. Random Sampling. There must be two separate, equally sized groups of resident families, a group that receives Mentoring services and a control group that does not. The two groups of residents must be chosen, at random, from an initial pool of residents that need similar levels of, and types of, FSS or CSS services. To the greatest extent possible, the initial pool of residents must be representative of the resident community as a whole, i.e., the initial pool should not include only residents that are more likely to succeed at self-sufficiency efforts that the typical HOPE VI resident.

c. Services to Residents. Mentoring demonstration programs under this NOFA should be developed to assist residents pursue their goals of increasing their income and improving their FICO credit rating through FSS and CSS programs, along with other goals such as: Participating in job training opportunities; gaining employment; achieving promotions in the workplace; completing GED, college, and other educational programs; participating in homeownership programs; graduating from HUD subsidized low-rent programs, or other indices of progress towards self-sufficiency.

d. Resident Assessment. Applicants must have a case management system in place that has assessed residents” needs and interests so that program activities and benchmarks can be designed to address their needs.

e. Goals and Outcomes. The Demonstration will compare five (5) specific indicators (i.e., goals and outcomes) for each of the above participant groups. Two of the indicators are mandatory for grants from this NOFA and three will be at the discretion of the applicant. Grantees will be required to gather this indicator information from the participants and report on them to the evaluator and ultimately to HUD. The two mandatory indicators are:

(1) Change in adjusted family income, adjusted for family size and other factors as established by HUD, and including factors specifically related to the applicant's FSS program (provided such factors apply to all participants, in both the Mentored and Control resident groups.). The HUD form 50058, “Family Report,” will be used in evaluation of this indicator; and

(2) Change in FICO credit rating. The FICO score to be tracked shall be the middle score of the scores assigned by each of the three major U.S. credit bureaus: Equifax, Trans Union and Experian.

f. Payment of Mentor FB&CBOs. The FB&CBOs will receive grant funds on a fee-for-service basis according to the number of benchmarks completed by participating HOPE VI residents. As the public housing resident family achieves each individual goal, payment for service will go to the sponsoring FB&CBO. Payment may not go to the individual mentor. Mentoring services may be donated or paid for by leverage and grant funds. If the Mentoring services are donated, their value as in-kind services should be included in this application as Leverage Resources. If the Mentoring services are to be paid for by leverage cash or grant funds, payment must be results-oriented, based upon the measured goals and outcomes in Section e. above. See “Funding Restrictions,” Section IV.E. of this NOFA.

g. Minimum FB&CBO Partners Required. Each HOPE VI grantee must partner with at least two FB&CBOs.

h. Non FB&CBO partners. Applicants should partner with local businesses, schools, libraries, banks, employment agencies, or other organizations, that will help mentors in providing support to those public housing families they will mentor. These organizations can provide additional expertise, volunteers, office supplies, training materials, software, equipment, and other resources.

3. Eligible Activities:

a. Mentoring demonstration programs and Services. Eligible activities for the Mentoring demonstration program are programs and services that are designed to meet residents' needs. Eligible activities may include, but are not limited to: assisting with job training and other employment-related activities in order to increase earnings; assisting with activities to improve credit scores; helping residents transition from welfare to work; counseling residents in attaining homeownership; assisting school-age children and youth with homework and other educational activities; providing guidance and preparatory programming to high school students (or other interested residents) for post-secondary education (college or trade schools); assisting adults with adult educational activities; offering training on such topics as parenting, consumer education, and family budgeting; assisting with transportation needs; and providing other services as deemed necessary by results obtained from case managers and resident surveys. See applicant's HUD-approved CSS plan for other eligible CSS activities. Innovative approaches that promote increased income, improved credit scores, sustained employment, homeownership or excellence in education will receive higher scores.

b. Mentoring demonstration program funds may be used to pay for the salary of a Mentoring Demonstration Program Coordinator (the PHA staff person who coordinates the Mentoring Demonstration Program). See section IV.F. for funding restrictions.

c. The PHA shall be responsible for ensuring that Mentoring demonstration program funds are used only for eligible activities. The PHA is responsible for ensuring that the mentoring demonstration program achieves the goals and objectives stated in this application and the subsequent grant agreement (if awarded), including the following activities:

(1) Marketing the program to residents;

(2) Meeting with case managers to assess participating residents' needs for supportive services (e.g. childcare, transportation), interests, skills and job readiness;

(3) Designing and coordinating grant activities based on residents' needs;

(4) Monitoring the progress of program participants and evaluating the overall success of the program. A portion of the grant funds should be reserved to ensure that an evaluation by the partner University or other research facility can be completed for all participants who received assistance through this program. For more information on how to measure performance, please see rating factor four.

(5) Determining payment levels and timing to FB&CBOs.

4. General Section References: The following subsections of Section III of the General Section are hereby incorporated by reference:

a. Additional Non-discrimination and Other Requirements;

(1) Civil Rights Laws, including the Americans with Disabilities Act of 1990 (42 U.S.C. 1201 et seq.);

(2) The Age Discrimination Act of 1974 (42 U.S.C. 6101 et seq.); and

(3) Title IX of the Education Amendments Act of 1972 (20 U.S.C. 1681 et seq.);

b. Affirmatively Furthering Fair Housing;

c. Ensuring the Participation of Small Businesses, Small Disadvantaged Businesses, and Women-Owned Businesses;

d. Executive Order 13166, Improving Access to Services for Persons With Limited English Proficiency (LEP);

e. Executive Order 13279, “Equal Protection of the Laws for Faith-Based and Community Organizations;

f. Procurement of Recovered Materials;

g. Participation in HUD-Sponsored Program Evaluation;

h. Salary Limitation for Consultants;

i. OMB Circulars and Government-wide Regulations Applicable to Financial Assistance Programs;

j. Drug-Free Workplace; and

k. Safeguarding Resident/Client Files.

IV. Application and Submission Information

A. Addresses to Request Application Package

This section describes how you may obtain application forms, additional information about the General Section, this NOFA, and technical assistance.

1. Copies of this NOFA and related application forms may be downloaded from the Grants.gov Web site at http://www.grants.gov/ or if you have difficulty accessing the information you may receive customer support from Grants.gov by calling their help line at (800) 518-GRANTS or sending an e-mail to support@grants.gov. The operators will assist you in accessing the information. If you do not have Internet access and you need to obtain a copy of this NOFA, you can contact HUD's NOFA Information Center toll-free at (800) HUD-8929. Persons with hearing or speech impairments may also call toll-free at (800) HUD-2209.

2. This announcement contains all an applicant will need to apply. Application kits will not be used with this NOFA. All the information you need to apply will be in the NOFA and available on http://www.grants.gov.

B. Content and Form of Application Submission

1. Number of Applications Permitted. Each applicant may submit only one application. Joint applications are not permitted. However, as described in this NOFA, it is expected that applicants will enter into partnerships with FB&CBOs in order to achieve the goals and objectives of the proposed mentoring demonstration program.

2. Documentation, Minimum Proposal Requirements. The only narrative portion of the application is the applicant's response to the rating factors. Within that narrative, applicants should submit information that will clearly describe the proposed mentoring demonstration program, including a description of:

a. How mentors and public housing residents will be recruited.

b. How mentors will be trained.

c. The methods of payment disbursements to FB&CBOs.

d. How the activities of the mentors will be documented.

e. Description of the voluntary and paid staffing.

f. How eligible participants will be selected for the mentoring demonstration program, including the control group.

g. How services will be made available to residents who have already been relocated, if relocated residents will be included in the mentoring and control groups.

h. How benchmarks will be established and evaluated.

3. Documentation of Match and Leverage Resources.

a. Leveraged funds and in-kind services (“Donations”) must be firmly committed. “Firmly committed” means that the amount of Match or leveraged resources and their dedication to the mentoring demonstration program activities must be explicit, in writing and signed by a person authorized to make the commitment. Letters of commitment or Memoranda of Understanding (MOU) must be on organization letterhead, and signed by a person authorized to make the stated commitment whether it is for cash or in-kind services. The letters of commitment or MOU must indicate the annual level and/or amount of commitment in dollars, and indicate how the commitment will relate to the proposed mentoring demonstration programs program. See Section IV.F of the General Section regarding the procedures for submitting third party documents.

b. Commitment documents must be submitted to HUD with the NOFA application. If a commitment document is not included in the application, the donation will not be counted toward the Match threshold or to the Leverage Resources factor. Missing commitment documents are not considered “technical deficiencies” and cannot be submitted after the submission date.

4. Documentation of Monitoring and Evaluation Partner. The application must contain a commitments letter or MOU from the University or other research facility partner that is evaluating the applicant's HOPE VI Revitalization grant. The letter or MOU must state that the University or other research facility is committed to providing evaluation of the applicant's Mentoring Demonstration program. Letters of commitment or Memoranda of Understanding (MOU) must be on organization letterhead, and signed by a person authorized to make the stated commitment whether it is for cash or in-kind services. (Note that third party documents must be submitted using the process described in Section IV.F. of the General Section. Although facsimile of the letter or MOU will be accepted by HUD, HUD prefers that the letter or MOU be converted into .pdf format and be submitted to Grants.gov with the rest of the application.)

5. Maximum Length of Application. The maximum length of the rating factor response portion of the application is 20 pages. A page is defined as 23 double-spaced lines with a maximum length of 6½ inches, in Times New Roman 12-point font. Forms or documents required by the NOFA, e.g., commitment letters and MOUs, are not included in this 20-page limit. Resumes and other staff information are included in this 20-page limit. Applicants should make every effort to submit only what is necessary in terms of supporting documentation.

6. Application Format. The only narrative portion of the application is the applicant's response to the rating factors. To ensure proper credit for information applicable to each rating factor, the applicant should include application Section references, with searchable key words or phrases, to support the documentation when addressing the rating factors, and when preparing related forms and supporting documentation. Applicants' rating factor responses should be as descriptive as possible, ensuring that every requested item is addressed. Applicants should make sure to include all requested information, according to the instructions of this NOFA. This will help ensure a fair and accurate review of your application. Although information from all parts of the application will be taken into account in rating the various factors, if supporting information cannot be found by the reviewer, it cannot be used to support a factor's rating.

7. Separate Electronic Files. When submitting your application via Grants.gov, you should provide the following information as separate electronic files. See Section IV.F. for electronic file format. If a wavier to the electronic application submission requirement is granted by HUD (see Section IV.F. of this NOFA and the General Section for details), your application submission should be structured as follows using tabs to separate the documents submitted.

a. TAB 1: Forms Required by HUD:

(1) Acknowledgement of Application Receipt (HUD-2993) (only use if you are granted a waiver to the electronic application submission requirement).

(2) HOPE VI Mentoring Demonstration Program Application Checklist.

(3) Application for Federal Assistance (SF-424).

(4) Grant Application Detailed Budget (HUD-424-CB).

(5) Grant Application Detailed Budget Worksheet (HUD-424-CBW), only the following categories: 1., 2., 3.a., 5., 6., 7., 9., and 10.

(6) Applicant/Recipient Disclosure/Update Report (HUD-2880).

(7) Disclosure of Lobbying Activities (SF-LLL), if applicable.

(8) Program Outcome Logic Model (HUD-96010).

(9) America's Affordable Communities Initiative (HUD-27300), if applicable.

(10) Client Comments and Suggestions (HUD 2994) (Optional).

(11) Facsimile Transmittal (HUD-96011).

Copies of these forms are included in Appendix B to the General Section.

b. TAB 2: Executive Summary.

c. TAB 3: Response for Rating Factor 1.

d. TAB 4: Response for Rating Factor 2.

e. TAB 5: Response for Rating Factor 3.

f. TAB 6: Response for Rating Factor 4.

g. TAB 7: Response for Rating Factor 5.

h. TAB 8: Response to Rating Factor 6.

i. TAB 9: Documentation of Match/Leverage Commitment:

(1) Letters or MOUs from partners attesting to leveraged donations; See Section IV.B. of this NOFA for documentation requirements (note that third party documents must be submitted using the process described in Section IV.F. of the General Section).

j. TAB 10: Documentation of evaluation partnership.

8. Budget Forms: The Grant Application Detailed Budget (HUD-424-CB) contains information that will add to your application. To assist you in filling out the form, HUD has available for your voluntary use a Grant Application Detailed Budget Worksheet (HUD-424-CBW) and Grant Application Detailed Budget Worksheet Instructions (HUD-424-CBWI). They can be downloaded from http://www.grants.gov.

9. Application Packaging. If you are granted a waiver to the application submission requirement, package the application as securely and simply as possible. Two-hole punch the pages at the top with a 2-¾″ center. Do not use a three ring binder.

C. Submission Dates and Times

Application Submission Date. Mentoring grant application submission date is July 7, 2005. If you are granted a waiver to the electronic application submission requirements, you must mail your application, using the United States Postal Service only, by midnight of the application submission date to be considered. Submit your application early to avoid missing the deadline and being disqualified by unanticipated delays or other related problems.

D. Intergovernmental Review

Executive Order 12372 was issued to foster intergovernmental partnership and strengthen federalism by relying on state and local processes for the coordination and review of federal financial assistance and direct federal development. The order allows each state to designate an entity to perform a state review function. The official listing of state points of contact (SPOC) for this review process can be found at: http://www.whitehouse.gov/omb/grants/spoc.html. States that are not listed on the website have chosen not to participate in the intergovernmental review process, and therefore do not have a SPOC. If you are located within one of those states, you may send applications directly to HUD.

If your state has a SPOC, you should contact it to see if it is interested in reviewing your application prior to submission to HUD. Please make sure that you allow ample time for this review process when developing and submitting your application.

E. Funding Restrictions

1. Administrative costs. Administrative costs to the PHA are allowable but limited to 15% of the grant amount. For example, Mentoring demonstration program funds may be used to pay for the salary of a Mentoring Demonstration Program Coordinator (the PHA staff person who coordinates the Mentoring Demonstration Program). Administrative costs must adhere to OMB Circular A-87. You must use form HUD-424-CBW to itemize your administrative costs in your application.

2. Ineligible Activities.

a. Payment of wages and/or salaries to participants receiving supportive services and/or programs.

b. Purchase, lease, or rental of land, real property (including homeownership housing units) and other space with grant funds, match funds or leverage funds.

c. Purchase, lease, or rental of vehicles.

d. Purchase, lease, or rental of office equipment.

e. Cost of application preparation or other pre-award activities.

f. Construction, rehabilitation, revitalization, or modernization of housing units or other physical structures with grant funds, match funds or leverage funds.

g. Payment of Legal Fees.

h. Incurring other costs that are not allowable under the HOPE VI NOFA grant award and are not stated as allowable under this NOFA.

i. Payment may not go to the individual mentor. Payment may only go to the FB&CBO on a fee-for-service basis.

The FB&CBOs will receive grant funds on a fee-for-service basis according to the number of benchmarks completed by participating HOPE VI residents. As the public housing resident family achieves each individual goal, payment for service will go to the sponsoring FB&CBO. Mentoring services may be donated or paid for by leverage and grant funds. If the Mentoring services are to be paid for by leverage cash or grant funds, payment must be results-oriented, based upon the measured goals and outcomes in Section e. above. See “Funding Restrictions,” Section IV.E. of this NOFA.

3. Payment of Mentor FB&CBOs. The FB&CBOs will receive grant funds on a fee-for-service basis according to the number of benchmarks completed by participating HOPE VI residents. As the public housing resident family achieves each individual goal, payment for service will go to the sponsoring FB&CBO. Mentoring services may be donated or paid for by leverage and grant funds.

a. If the Mentoring services are donated, their value as in-kind services should be included in this application as Leverage Resources.

b. If the Mentoring services are to be paid for by leverage cash or grant funds, payment must be results-oriented, based upon the five (5) measured goals and outcomes referred to in “Program Requirements,” Section III.C.2. of this NOFA.

4. Transfer of Funds. HUD does not have the discretion to transfer funds available through this NOFA to any other program, grant, or area of the applicant's current HOPE VI grant. The funds must be used for the HOPE VI Mentoring Demonstration Program for FB&CBOs.

5. Deobligation of Funds. HUD shall recover (take back) any grant funds where the activity has not been initiated or completed within the required 18-month grant term, which begins as of the grant agreement execution date. The grant agreement will set forth, in detail, circumstances under which funds may be recovered and other sanctions imposed. The PHA is encouraged to plan for sustainability of successful aspects of its mentoring demonstration program. Such sustained activities may extend beyond the 18-month grant term (e.g., using other funding/in-kind resources).

F. Other Submission Requirements

This section provides the application submission and receipt instructions for HUD program applications. Please read the following instructions carefully and completely, as failure to comply with these procedures may disqualify your application. See Section IV.F. of the General Section for more detailed information.

1. Electronic Delivery. HUD requires applicants to submit their applications electronically through http://www.grants.gov. HUD will not accept or consider any applications that have been submitted through any other method, unless a waiver is granted.

2. Electronic Signature. Applications submitted through grants.gov constitute submission as electronically signed applications. The registration and e-authentication process establishes the Authorized Organization Representative. When you submit the application through Grants.gov, the name of your authorized organization representative on file will be inserted into the signature line of the application. Applicants must register the individual who is able to make legally binding commitments for the applicant organization as the Authorized Organization Representative.

3. Waiver of Electronic Submission Requirement. HUD will only accept electronic applications submitted through http://www.grants.gov unless the applicant has received a waiver from the Department. HUD regulations at 24 CFR 5.110, permit waivers of regulatory requirements to be granted for cause. If you are unable to submit your application electronically, you may, in writing, request a waiver from this requirement. Your waiver request must state the basis for the request and explain why electronic submission is not possible. The basis for waivers for cause may include but are not limited to: (a) lack of available internet access in the geographic location in which the applicant is located or, (b) the physical disability of the applicant prevents the applicant from accessing or responding to the electronic application. See Section IV.F. of the General Section for more detailed information.

4. No Facsimiles of Entire Application. HUD will not accept fax transmissions from applicants who receive a waiver to submit a paper copy application. Paper applications must be complete and submitted in their entirety, via the USPS Express Mail.

V. Application Review Information

A. Criteria: Factors for Award Used to Evaluate and Rate Mentoring Demonstration Programs Applications

The factors for rating and ranking applicants and maximum points for each factor are provided below. The maximum number of points available for this program is one hundred.

1. Rating Factor 1: Capacity of the Applicant, FB&CBO and Relevant Organizational Staff (32 Points)

Description. This factor addresses whether the applicant has the organizational resources necessary to successfully implement the proposed activities within the grant period. In rating this factor, HUD will consider the extent to which the proposal demonstrates that the applicant will have qualified and experienced staff dedicated to administering the program.

a. Proposed Program Staffing. Staff Experience (13 Points)

(1) This factor evaluates the knowledge and experience of the proposed Mentoring Demonstration Program Coordinator, and other HOPE VI staff in designing and successfully managing programs similar to the program for which funding is being requested. Experience will be judged in terms of recent, relevant, and successful experience of the team to undertake eligible program activities. In rating this factor, HUD will consider experience within the last 5 years to be recent. Experience should relate specific activities and specific accomplishments.

(2) Scoring:

(a) If the application demonstrates and documents the success of the PHA's CSS or comparable program, the application will receive up to 13 points. Applicants must provide quantifiable evidence to support their assertion of success and show how this success is attributable to their staffing structure.

(b) If the application demonstrates and documents the PHA has implemented a CSS or comparable program, but do not yet have positive results to report, the application will receive up to 8 points. Applicants must provide quantifiable evidence to support their assertion of results and show how this is related to their staffing structure.

(c) If the application demonstrates the PHA has never implemented a CSS or comparable program, the application will receive zero points.

b. FB&CBO Partner Capacity and Experience (15 Points)

(1) The application will be evaluated based on the capacity of the designated partners (FB&CBOs), their experience in implementing similar programs, and their ability to assemble a team of mentors who will work with HOPE VI families. The application will also be evaluated on whether the FB&CBO partners will be able to quickly access enough qualified mentors, to deliver the proposed activities in a timely and effective fashion.

(2) Scoring:

(a) If, as of the application submission date, partners/FB&CBOs have staff in place, an identified group of individuals willing to become mentors, and have experience in implementing similar programs, the application will receive up to a maximum of 15 points;

(b) If, as of the application submission date, the partner/FB&CBO has an identified group of individuals willing to become mentors, but lacks either the experience or a staff person to coordinate the program, the application will receive up to a maximum of 8 points;

(c) If, as of the application submission date, the partner/FB&CBO has not identified group of individuals willing to become mentors, the application will receive zero points.

c. Program Administration and Fiscal Management (4 Points)

(1) Describe how the program will be managed; how HUD can be sure that there will be program and financial accountability; and describe staff or team members” roles and responsibilities. The applicant must provide the following:

(a) A complete description of the fiscal management structure, including fiscal controls that are in place;

(b) A description of goals, interim and final program outcomes, and their timeframes;

(c) A list of any findings (HUD Inspector General, management review, fiscal, etc.), material weaknesses, and methods used to address them.

(2) Scoring:

(a) If the application shows a fiscal management structure and controls that are adequate to manage a grant from this Mentoring NOFA, and does not have any outstanding findings, the applicant will receive up to 4 points.

(b) If the application shows a fiscal management structure and controls that are adequate to manage a grant from this NOFA, but has outstanding findings (or does not address findings), the applicant will receive up to 2 points.

(c) If the applicant does not describe its fiscal management structure and show that they are adequate, the applicant will receive 0 points.

2. Rating Factor 2: Soundness of Approach (25 Points)

Description. This factor addresses both the quality and cost-effectiveness of your Mentoring Demonstration Program plan, as proposed in your application. Your factor responses must indicate a clear relationship between your proposed activities, the targeted population's needs, and the purpose of the program funding.

In rating this factor HUD will consider:

a. Specific Mentoring Services and/or Activities (5 Points)

(1) Description. Your response must describe in detail the specific mentoring services and activities you plan to offer, who will benefit from them and how they will benefit from them. You should tie specific services or activities to specific sub-groups within your public housing resident and low-income communities.

(2) Scoring:

(a) If you show a strong, comprehensive network of grassroots, faith-based and other community-based organizations that have the capacity to provide needed services to the participants, and describe how the services will benefit different participant sub-groups, you will receive up to 5 points.

(b) If you show a variety of individual faith-based and community organizations, courses or services that will benefit different participant sub-groups, but not a network that responds comprehensively to the range resident needs, you will receive up to 2 points.

(c) If you do not show the relationship of FB&CBOs, courses or services to planned participant goals and outcomes, you will receive 0 points.

b. Feasibility (10 Points)

(1) Description. This factor examines whether your overall application is logical, feasible, and likely to achieve its stated purpose during the term of the grant. You will be evaluated based on whether your application requests funds commensurate with the level of effort necessary to accomplish your goals and anticipated results.

(2) Scoring:

(a) If the application shows financial feasibility, the ability to work with the target group of residents and low-income families, a logical plan to provide mentoring services to the participants and that the amount of requested funds is commensurate with the level of effort necessary to accomplish your goals and anticipated results, the applicant will receive up to 10 points.

(b) If the application shows some but not all of the element described in 2.a. above, the applicant will receive up to 6 points.

(c) If the application shows only one element, or none of the elements described in 2.a. above, the applicant will receive up to 2 points.

(d) If the application as a whole is not logical and shows poor planning, the applicant will receive 0 points.

c. Resident Self Sufficiency (10 Points)

(1) Description. In order to receive points in this category, responses to the factors and Mentoring Demonstration Program plan must indicate the types of activities and training programs your FB&CBOs/mentors will offer which can help residents successfully transition from welfare to work and/or complete their desired goal. These activities should be geared to all members of the family.

(2) Scoring:

(a) If the applicant shows a comprehensive set of goals, courses/services that considers the needs of the entire family (every member) of participants, which may include the attainment of higher earnings, improved credit scores, permanent employment, buying a home, changing negative behaviors, and improving poor performance in school, the application will receive up to 10 points.

(b) If the applicant proposes goals, courses/services that consider the needs of fewer than every family member, the application will receive up to 5 points.

(c) If the applicant does not show that the program will contribute to resident self-sufficiency, the application will receive 0 points.

3. Rating Factor 3: Leveraging Resources (20 Points)

a. Description. This factor addresses your ability to secure community resources that can be combined with HUD's grant resources to achieve program purposes. In rating this factor, HUD will look at the extent to which you and your partner coordinate and leverage your services with other organizations serving the same or similar populations.

(1) Leverage may be cash or other resources or services that can be donated, and may include: In-kind services, contributions or administrative costs provided to the applicant; funds from federal sources (not including Public Housing or HOPE VI funds) as allowed by statute, including for example CDBG; funds from any state or local government sources; and funds from private contributions.

(2) Leveraged funds and in-kind services (“Donations”) must be firmly committed. “Firmly committed” means that the amount of leveraged resources and their dedication to the Mentoring Demonstration Program activities must be explicit, in writing and signed by a person authorized to make the commitment.

(3) Donations that were included in your HOPE VI NOFA application may not also be included in your Mentoring Demonstration Program NOFA application. In order to be counted toward this rating factor, the related commitment document must address services specific to this NOFA.

(4) If volunteer time is being donated, it should be calculated using the number of hours to be donated, multiplied by the normal professional rate for the local area or, if these are not applicable, the national minimum wage rate. The commitment must be in place at time of award. Public Housing funds of any kind are not an eligible donation. Applicant staff time is not an eligible donation. Applicants shall annotate the Form HUD-424-CB to list the sources and amount of each donation.

(5) Points for this factor will be awarded based on the documented evidence of partnerships and firm commitments and the ratio of requested funding to the total proposed grant budget. See Section IV.B. of this NOFA for documentation requirements.

b. Scoring:

(1) Applicants that document firm commitments to obtain extra funding equal to 50% or more of the requested amount will receive the full 20 points.

(2) Applicants that document firm commitments to obtain extra funding equal to from 25% to 49.9% of the requested amount will receive 10 points.

(3) Applications that document firm commitments to obtain from 10% to 24.9% of the requested amount will receive 5 points

(4) Applications that document firm commitments to obtain less than 10% or less of the requested amount will receive 0 points.

4. Rating Factor 4: Achieving Results and Evaluation Methods (20 Points)

a. Description. Under this rating factor, applicants must demonstrate how they propose to measure their success and outcomes. This rating factor requires that the applicant identify goals, interim and final program outcomes, and their timeframes. Required outcome measures must include, at a minimum:

(1) Changes in participants' income; and

(2) Changes in participants' credit ratings.

Timeframes for outcomes should take into account the due date of the required periodic report to HUD and items that will be planned into the Mentoring Demonstration Program.

Performance indicators should be objectively quantifiable and should measure actual achievements against anticipated achievements. The narrative should identify what you are going to measure, how you are going to measure it, and the steps you have in place to adjust your plans if outcomes are not met within the established 18-month grant term timeframe. The Logic Model will be used as part of the evaluation of this rating factor.

b. Scoring:

(1) If the applicant shows interim and final measurable outcomes and/or benchmarks, with timeframes, and plans for measuring the required outcomes in both the Mentored group and control group, and shows plans for adjusting the program, the application will receive up to 20 points.

(2) If the applicant shows interim and final measurable outcomes or benchmarks, with timeframes, and plans for measuring the required outcomes in both the Mentored group and control group but without plans for adjusting the program, the application will receive up to 10 points.

(3) If the application does not show periodic and final measurable outcomes or benchmarks, with timeframes, or does not show plans to measure the required outcomes, the application will receive 0 points.

5. Rating Factor 5: Family Self-Sufficiency (2 Points)

a. Scoring:

(1) Applicants that can demonstrate that the participants in both the Mentored and the control groups will all be also enrolled in the PHA's Family Self-Sufficiency program within 60 days after the date of notification of grant award, will receive 2 Points.

(2) Applicants that will not enroll the participants in both the Mentored and control groups in a Family Self-Sufficiency program within 60 days after notification of grant award, will receive 0 points.

6. Rating Factor 6: Energy Star (1 Point)

a. Description. HUD has adopted a wide-ranging energy action plan for improving energy efficiency in all program areas. See, “Participation in Energy Star,” Section V.B.2.h. of the General Section of the SuperNOFA. Promotion of Energy Star compliance is a HOPE VI Revitalization program requirement. See Section III.C. of this NOFA.

b. Scoring:

(1) You will receive 1 Point if your application demonstrates that you will include Energy Star in homeownership counseling.

(2) You will receive 0 Points if your application does not demonstrate that you will include Energy Star in homeownership counseling.

B. Review and Selection Process

1. Two levels of review will be conducted:

a. A technical review by individual reviewers to confirm eligibility and rate the application based on the four rating factors provided in this section; and,

b. A technical review by a Review Committee to ensure uniform rating treatment by the individual reviewers. HUD will select for grant award the highest ranked application first and continue down in ranking until funds are exhausted.

2. Response to Factors as Narrative: The responses to the rating factors constitute the narrative portion of the application. The rating factor responses should include information and references to the Mentoring Demonstration Program Plan and other documentation in the application. The factors cover key personnel, target audience, services, and activities, how the services or activities match the needs of the target audience, program evaluation, and financial controls. A narrative separate from the rating factor responses will not be reviewed. Repeating information is not necessary.

3. Corrections to Deficient Applications:

a. Consistent with its regulations at 24 CFR part 4, subpart B, HUD will not consider any unsolicited information, you the applicant may want to provide after the application submission date. HUD may contact you to clarify an item in your application or to correct technical deficiencies. HUD may not seek clarification of items or responses that improve the substantive quality of your response to the rating factors. In order not to unreasonably exclude applications from being rated and ranked, HUD may contact applicants to ensure proper completion of the application and will do so on a uniform basis for all applicants. Examples of curable (correctable) technical deficiencies include failure to submit the proper certifications, failure to submit an application that contains a signature or, when required, an original signature, by an authorized official. In each case, HUD will notify you in writing of a technical deficiency. HUD will notify applicants by facsimile or by the United States Postal Service. It is very important that the fax number listed on the Application Receipt is correct so that the notification gets to the right person on your staff. Clarifications or corrections of technical deficiencies in accordance with the information requested by HUD must be submitted within seven calendar days of the date you receive HUD notification. (If the submission date falls on a Saturday, Sunday, or a federal holiday, your correction must be received by HUD on the next day that is not a Saturday, Sunday, or a federal holiday.) If the deficiency is not corrected within this time period, HUD will reject the application as incomplete and it will not be considered for funding.

b. Unacceptable Applications. After the 7-day technical deficiency correction period, HUD will disapprove all applications that it determines are not acceptable for processing. HUD's notification of rejection will state the basis for the decision.

VI. Award Administration Information

A. Award Notices

1. The HUD Reform Act prohibits HUD from notifying you as to whether or not you have been selected to receive a grant until it has announced all grant recipients. If your application has been found to be ineligible or if it did not receive enough Points to be funded, you will not be notified until the successful applicants have been notified. HUD will provide written notification to all applicants, whether or not they have been selected for funding.

2. Authorizing Document. The notice of award signed by the Assistant Secretary for Public and Indian Housing (grants officer) is the authorizing document. This notice will be delivered by fax and the U.S. Postal Service.

3. Grant Agreement. When you are selected to receive a Mentoring grant, HUD will send you a Grant Agreement, which constitutes the contract between you and HUD to carry out and fund public housing revitalization activities. Both you and HUD will sign the cover sheet of the grant agreement. It is effective on the date of HUD's signature.

4. Applicant Debriefing. HUD will provide an applicant a copy of the total score received by their application and the score received for each rating factor.

B. Administrative and National Policy Requirements

1. Timeliness of Development Activity. Grantees must proceed within a reasonable timeframe, to complete the goals and objectives within the 18-month grant term. The PHA is encouraged to plan for sustainability of successful aspects of its mentoring demonstration program. Such sustained activities may extend beyond the 18-month grant term (e.g., using other funding/in-kind resources) but the applicant should be reminded that the unused grant funds associated with this grant will be deobligated after the end of the grant term, as noted under section IV.E.

2. Match.

a. Grantees will be required to show evidence that matching resources were actually received and used for their intended purposes. Sources of matching funds may be substituted after grant award, as long as the dollar requirement is met.

b. Grantees must pursue and enforce any commitment (including commitments for services) obtained from any public or private entity for any contribution or commitment to the project or surrounding area that was part of the match amount.

3. LOCCS Requirements. The grantee must record all obligations and expenditures in LOCCS.

4. Conflict of Interest in Grant Activities.

a. Prohibition. In addition to the conflict of interest requirements in 24 CFR part 85, no person who is an employee, agent, consultant, officer, or elected or appointed official of a grantee and who exercises or has exercised any functions or responsibilities with respect to activities assisted under a HOPE VI grant, or who is in a position to participate in a decision-making process or gain inside information with regard to such activities, may obtain a financial interest or benefit from the activity, or have an interest in any contract, subcontract, or agreement with respect thereto, or the proceeds thereunder, either for himself or herself or for those with whom he or she has family or business ties, during his or her tenure or for one year thereafter.

b. HUD-Approved Exception.

(1) Standard. HUD may grant an exception to the prohibition in Section a. above on a case-by-case basis when it determines that such an exception will serve to further the purposes of HOPE VI and its effective and efficient administration.

(2) Procedure. HUD will consider granting an exception only after the grantee has provided a disclosure of the nature of the conflict, accompanied by:

(a) An assurance that there has been public disclosure of the conflict;

(b) A description of how the public disclosure was made; and

(c) An opinion of the grantee's attorney that the interest for which the exception is sought does not violate state or local laws.

(d) Consideration of Relevant Factors. In determining whether to grant a requested exception under Section a. above, HUD will consider the cumulative effect of the following factors, where applicable:

(i) Whether the exception would provide a significant cost benefit or an essential degree of expertise to the plan and demolition activities that would otherwise not be available;

(ii) Whether an opportunity was provided for open competitive bidding or negotiation;

(iii) Whether the person affected is a member of a group or class intended to be the beneficiaries of the plan and the exception will permit such person to receive generally the same interests or benefits as are being made available or provided to the group or class;

(iv) Whether the affected person has withdrawn from his or her functions or responsibilities, or the decision making process, with respect to the specific activity in question;

(v) Whether the interest or benefit was present before the affected person was in a position as described in Section (iii) above;

(vi) Whether undue hardship will result either to the grantee or the person affected when weighed against the public interest served by avoiding the prohibited conflict; and

(vii) Any other relevant considerations.

5. Final Audit. Recipients who receive $500,000 or more of Federal funding in a single year, in aggregate, are required to obtain a complete final closeout audit of the recipient's financial statements by a certified public accountant (CPA), in accordance with generally accepted government audit standards. A written report of the audit must be forwarded to HUD within 60 days of issuance. Grant recipients must comply with the requirements of 24 CFR part 84 or 24 CFR part 85 as stated in OMB Circulars A-110, A-87, and A-122, as applicable.

6. Policy Requirements.

a. OMB Circulars and Administrative Requirements. You must comply with the following administrative requirements related to the expenditure of federal funds. OMB circulars can be found at http://www.whitehouse.gov/omb/circulars/index.html. Copies of the OMB circulars may be obtained from EOP Publications, Room 2200, New Executive Office Building, Washington, DC 20503; telephone (202) 395-7332 (this is not a toll-free number). The Code of Federal Regulations can be found at http://www.access.gpo.gov/nara/cfr/index.html.

(1) Administrative requirements applicable to PHAs are:

(a) 24 CFR part 85 (Administrative Requirements for Grants and Cooperative Agreements to State, Local, and Federally Recognized Indian Tribal Governments), as modified by 24 CFR 941 or successor part, subpart F, relating to the procurement of partners in mixed finance developments.

(b) OMB Circular A-87 (Cost Principles for State, Local, and Indian Tribal Governments);

(c) 24 CFR 85.26 (audit requirements).

(2) Administrative requirements applicable to nonprofit organizations are:

(a) 24 CFR part 84 (Grants and Agreements with Institutions of Higher Education, Hospitals, and other Nonprofit Organizations);

(b) OMB Circular A-122 (Cost Principles for Nonprofit Organizations);

(c) 24 CFR 84.26 (audit requirements).

(3) Administrative requirements applicable to for profit organizations are:

(a) 24 CFR part 84 (Grants and Agreements with Institutions of Higher Education, Hospitals, and other Nonprofit Organizations);

(b) 48 CFR part 31 (contract cost principles and procedures);

(c) 24 CFR 84.26 (audit requirements).

7. Environmental Exclusion. In accordance with 24 CFR 50.19(b)(3), (9), (12) and (13) of the HUD regulations, activities assisted under this program are categorically excluded from the requirements of the National Environmental Policy Act and are not subject to environmental review under the related laws and authorities.

8. Federalism Impact. Executive Order 13132 (captioned “Federalism”) prohibits, to the extent practicable and permitted by law, an agency from promulgating a regulation that has Federalism implications and either imposes substantial direct compliance costs on state and local governments and is not required by statute, or preempts state law, unless the relevant requirements of section 6 of the Executive Order are met. None of the provisions in this NOFA will have Federalism implications and they will not impose substantial direct compliance costs on state and local governments or preempt state law within the meaning of the Executive Order. As a result, the notice is not subject to review under the Order.

9. Accountability in the Provision of HUD Assistance. Section 102 of the Department of Housing and Urban Development Reform Act of 1989 (HUD Reform Act) and the regulations in 24 CFR part 4, subpart A contain a number of provisions that are designed to ensure greater accountability and integrity in the provision of certain types of assistance administered by HUD. On January 14, 1992, (57 FR 1942), HUD published a notice that also provides information on the implementation of section 102. HUD will comply with the documentation, public access, and disclosure requirements of section 102 with regard to the assistance awarded under this NOFA, as follows:

a. Documentation and public access requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations at 24 CFR part 15. In addition, HUD will include the recipients of assistance pursuant to this NOFA in its Federal Register notice of all recipients of HUD assistance awarded on a competitive basis.

b. Disclosures. HUD will make available for public inspection all applications and related documentation, including letters of support, for 5 years beginning not less than 30 days following the award or allocation. All reports, both applicant disclosures and updates, will be made available in accordance with the Freedom of Information Act (5 U.S.C. 552) and HUD's implementing regulations at 24 CFR part 15.

10. Section 103 HUD Reform Act. HUD will comply with section 103 of the Department of Housing and Urban Development Reform Act of 1989 and HUD's implementing regulations in subpart B of 24 CFR part 4 with regard to the funding competition. These requirements continue to apply until the announcement of the selection of successful applicants. HUD employees involved in the review of applications and in the making of funding decisions are limited by section 103 from providing advance information to any person (other than an authorized employee of HUD) concerning funding decisions, or from otherwise giving any applicant an unfair competitive advantage. Persons who apply for assistance in this competition should confine their inquiries to the subject areas permitted under section 103 and subpart B of 24 CFR part 4.

Applicants or employees who have ethics-related questions should contact the HUD Ethics Law Division at (202) 708-3815. (This is not a toll-free number.) For HUD employees who have specific program questions, such as whether particular subject matter can be discussed with persons outside HUD, the employee should contact the appropriate Field Office Counsel.

11. Prohibition Against Lobbying Activities. Applicants for funding under this NOFA are subject to the provisions of section 319 of the Department of Interior and Related Agencies Appropriation Act for Fiscal Year 1991 (31 U.S.C. 1352) (the Byrd Amendment) and to the provisions of the Lobbying Disclosure Act of 1995 (Pub. L. 104-65; approved December 19, 1995).

The Byrd Amendment, which is implemented in regulations at 24 CFR part 87, prohibits applicants for federal contracts and grants from using appropriated funds to attempt to influence federal executive or legislative officers or employees in connection with obtaining such assistance, or with its extension, continuation, renewal, amendment, or modification. The Byrd Amendment applies to the funds that are the subject of this NOFA. Therefore, applicants must file a certification stating that they have not made and will not make any prohibited payments, and, if any payments or agreement to make payments of non-appropriated funds for these purposes have been made, a form SF-LLL disclosing such payments must be submitted.

The Lobbying Disclosure Act of 1995 (Pub. L. 104-65; approved December 19, 1995), which repealed section 112 of the HUD Reform Act, requires all persons and entities who lobby covered executive or legislative branch officials to register with the Secretary of the Senate and the Clerk of the House of Representatives and file reports concerning their lobbying activities.

C. Reporting

1. Performance Reports. The grantee shall submit a performance report to HUD one year after receiving the award and at the completion of the program. These progress reports shall include financial reports (SF-269A) and a narrative describing milestones or benchmarks, program progress, problems encountered and methods used to address these problems. Grantees shall use quantifiable data to measure performance against goals and objectives outlined in its Mentoring Demonstration Program grant plan (Logic Model), and in accordance with the Program Requirements for Goals and Outcomes (see Section III of this NOFA). If reports are not received by the submission date, grant funds will not be authorized for expenditure until reports are received. The final narrative and financial report shall be due to HUD 90 days after the full expenditure of funds or when the Mentoring Demonstration Program activities are complete.

2. Logic Model Reporting. The reporting shall include submission of a completed logic model indicating results achieved against the proposed output goal(s) for output and proposed outcome(s) which the applicant stated in the applicant's approved application and agreed upon with HUD. The submission of the logic model and required information should be in accord with the Program Schedule time frames as identified in the application and Grant Agreement.

VII. Agency Contacts

Technical Assistance. HUD staff is not permitted to assist in preparing your application. If you have a question or need clarification, you may call, fax, or write Ronald Ashford, Director, HOPE VI Community and Supportive Services, Department of Housing and Urban Development, 451 Seventh Street, SW., Room 4130, Washington, DC 20410; telephone (202) 401-8812; fax (202) 401-2370. Persons with hearing or speech impairments may call the Federal Information Relay Service TYY at (800) 877-8339.

VIII. Other Information

1. Frequently asked questions, clarifications, and any technical corrections will be posted to the HUD home page at http://www.hud.gov. In addition, all materials related to this NOFA will be posted to the HOPE VI Web site at http://www.hud.gov. Any technical corrections will also be published in the Federal Register. Applicants are responsible for monitoring these sites and the Federal Register during the application preparation period.

2. Paperwork Reduction Act Statement. The information collection requirements contained in this document have been approved by the Office of Management and Budget (OMB) under the Paperwork Reduction Act of 1995 (44 U.S.C. 3501-3520) and assigned OMB control number 2577-0208. In accordance with the Paperwork Reduction Act, HUD may not conduct or sponsor, and a person is not required to respond to, a collection of information unless the collection displays a currently valid OMB control number. Public reporting burden for the collection of information is estimated to average 20 hours per annum per respondent for the application and grant administration. This includes the time for collecting, reviewing, and reporting the data for the application, semi-annual reports and final report. The information will be used for grantee selection and monitoring the administration of funds. Response to this request for information is required in order to receive the benefits to be derived.

Dated: April 23, 2005.
Michael Liu,
Assistant Secretary for Public and Indian Housing.

BILLING CODE 4210-33-P

[FR Doc. 05-8851 Filed 5-3-05; 8:45 am]

BILLING CODE 4210-33-C